DEPARTMENT OF DEFENSE

Department of the Air Force

Intent To Grant an Exclusive Patent License

SUMMARY: Pursuant to the provisions of Part 404 of Title 37, Code of Federal Regulations, which implements Public Law 96-517, as amended, the Department of the Air Force announces its intention to grant Eclipse Composites Engineering, LLC, a corporation of Utah, having a place of business at 5715 West Frolic Court, Herriman, UT 84096-1730, an exclusive license in any right, title and interest the United States Air Force has in: U.S. Patent Application No. 12/231,420, filed on August 26, 2008, entitled “Antenna for Compact Satellite Terminal” by David J. Legare and David M. Hummel, both as co-inventors.

FOR FURTHER INFORMATION CONTACT: A license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Bao-Anh Trinh,
Air Force Federal Register Liaison Officer.

[FR Doc. E8-26232 Filed 11-3-08; 8:45 am]

BILLING CODE 5001-05-P